NUCLEAR REGULATORY COMMISSION

[Docket Nos. 50-237-EA and 50-249-EA, ASLBP No. 14-930-01-EA-BD01]

Exelon Generation Company, LLC; Establishment of Atomic Safety and Licensing Board

Pursuant to delegation by the Commission dated December 29, 1972, see 37 FR 28,710 (1972), and the Commission's regulations, see, e.g., 10 CFR 2.104, 2.105, 2.300, 2.309, 2.313, 2.318, and 2.321, notice is hereby given that an Atomic Safety and Licensing Board (Board) is being established to preside over the following proceeding:

Exelon Generation Company, LLC,

(Dresden Nuclear Power Station Confirmatory Order Modifying License).

This Board is being established in response to a hearing request filed by Local Union No. 15, International Brotherhood of Electrical Workers, AFL-CIO pursuant to a notice issued by the NRC Staff, see 78 Fed. Reg. 66,965 (Nov. 7, 2013), that provided an opportunity for a hearing on the Confirmatory Order Modifying License (EA-13-068) issued on October 28, 2013 for the Dresden Nuclear Power Station. The Confirmatory Order is the result of an agreement reached during an alternative dispute resolution mediation session conducted on September 18, 2013 between Exelon Generation Company, LLC and the NRC Staff.

The Board is comprised of the following administrative judges:

Paul S. Ryerson, Chairman, Atomic Safety and Licensing Board Panel, U.S. Nuclear Regulatory Commission, Washington, DC 20555-0001.

Alex S. Karlin, Atomic Safety and Licensing Board Panel, U.S. Nuclear Regulatory Commission, Washington, DC 20555-0001.

Dr. Jeffrey D.E. Jeffries, Atomic Safety and Licensing Board Panel, U.S. Nuclear Regulatory Commission, Washington, DC 20555-0001.

All correspondence, documents, and other materials shall be filed in accordance with the NRC E-Filing rule. See 10 CFR 2.302.

Issued at Rockville, Maryland this 19th day of December 2013.
E. Roy Hawkens,
Chief Administrative Judge, Atomic Safety and Licensing Board Panel.

[FR Doc. 2013-30865 Filed 12-24-13; 8:45 am]

BILLING CODE 7590-01-P